DEPARTMENT OF TRANSPORTATION

Federal Railroad Administration

[Docket Number FRA-2005-21613]

Petition for Extension of Waiver of Compliance

Under part 211 of title 49 Code of Federal Regulations (CFR), this document provides the public notice that on April 8, 2021, the Association of American Railroads (AAR), on behalf of itself and its member railroads, petitioned the Federal Railroad Administration (FRA) for an extension of a waiver of compliance from certain provisions of the Federal railroad safety regulations contained at 49 CFR part 229, Railroad Locomotive Safety Standards. The relevant FRA Docket Number is FRA-2005-21613.

Specifically, AAR requests an extension of the relief granted from 49 CFR 229.29, Air brake system calibration, maintenance, and testing, applicable to New York Air Brake CCB-1, CCB-2, and CCB-26; Wabtec Railway Electronics EPIC-3102D2 and EPIC-2; and FastBrake electronic air brake systems, for the extension of time intervals for level two and level three locomotive air brake system maintenance. AAR states that throughout the history of this waiver, several test committees, made up of representatives from industry, labor, and FRA, were formed to study air brake systems. AAR notes that FRA may propose codifying provisions of this waiver in the future. Additionally, AAR requests that FRA grant a unified extension to all AAR member railroads that are currently participating in this waiver.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

Communications received by June 7, 2021 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2021-08385 Filed 4-21-21; 8:45 am]

BILLING CODE 4910-06-P